DEPARTMENT OF HEALTH AND HUMAN SERVICES

Centers for Disease Control and Prevention

National Center for Environmental Health/Agency for Toxic Substances and Disease Registry; The Board of Scientific Counselors (BSC), Centers for Disease Control and Prevention (CDC), National Center for Environmental Health (NCEH)/Agency for Toxic Substances and Disease Registry (ATSDR): Meeting

In accordance with section 10(a)(2) of the Federal Advisory Committee Act (Pub. L. 92-463), CDC and ATSDR announce the following meeting of the aforementioned committee:

Times and Dates: 8 a.m.-4:45 p.m., May 17, 2007. 8 a.m.-12 p.m., May 18, 2007.

Place: 1825 Century Boulevard, Atlanta, Georgia 30345.

Status: Open to the public, limited only by the space available. The meeting room accommodates approximately 75 people.

Purpose: The Secretary, Department of Health and Human Services (HHS), and by delegation, the Director, CDC, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC, and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Discussed: An update on NCEH/ATSDR's Office of the Director; an update on Science and Public Health and Reports; an update on the Health Department Subcommittee, the Community and Tribal Subcommittee, and the Program Peer Review Subcommittee (PPRS) Reports and Discussion; a presentation on CDC's Web site redesign and the NCEH/ATSDR Web site; an update on Climate Change Initiative; a presentation on the Office of Tribal Affairs' Expert Panel Report; an update on issues from the Board; a discussion on the Office of Management and Budget Performance Assessment and Review Techniques goals and objectives; an update on the National Exposure Report; an update on Preparedness and Emergency Response priorities and portfolio; and a discussion on BSC—PPRS Draft Peer Review Report on ATSDR Site-Specific Activities.

Agenda items are tentative and subject to change.

FOR FURTHER INFORMATION CONTACT: Sandra Malcom, Committee Management Specialist, NCEH/ATSDR, 1600 Clifton Road, Mail Stop E-28, Atlanta, Georgia 30303; telephone 404/498-0003, fax 404/498-0622; E-mail: smalcom@cdc.gov. The deadline for notification of attendance is May 4, 2007.

The Director, Management Analysis and Services Office, has been delegated the authority to sign Federal Register notices pertaining to announcements of meetings and other committee management activities for both CDC and NCEH/ATSDR.

Dated: April 2, 2007.
Elaine L. Baker,
Acting Director, Management Analysis and Services Office, Centers for Disease Control and Prevention.

[FR Doc. E7-6585 Filed 4-6-07; 8:45 am]

BILLING CODE 4163-18-P